DEPARTMENT OF ENERGY

Federal Energy Regulatory Commission

Combined Notice of Filings #1

December 16, 2010.

Take notice that the Commission received the following electric rate filings:

Docket Numbers: ER10-842-002.

Applicants: Energy Plus Holdings LLC.

Description: Supplemental Report of Energy Plus Holdings LLC Regarding Losses Sustained on Wholesale Sales.

Filed Date: 12/03/2010.

Accession Number: 20101203-5135.

Comment Date: 5 p.m. Eastern Time on Monday, December 27, 2010.

Docket Numbers: ER10-2156-002.

Applicants: Consumers Energy Company.

Description: Refund Report of Consumers Energy Company.

Filed Date: 12/16/2010.

Accession Number: 20101216-5070.

Comment Date: 5 p.m. Eastern Time on Thursday, January 06, 2011.

Docket Numbers: ER10-2822-001.

Applicants: Atlantic Renewable Projects II LLC.

Description: Atlantic Renewable Projects II LLC submits tariff filing per 35: Compliance Filing to Baseline MBR Tariff to be effective 9/22/2010.

Filed Date: 12/16/2010.

Accession Number: 20101216-5138.

Comment Date: 5 p.m. Eastern Time on Thursday, January 06, 2011.

Docket Numbers: ER10-3171-001.

Applicants: NorthWestern Corporation.

Description: NorthWestern Corporation submits tariff filing per 35: Compliance Filing for NorthWestern Electric Baseline Tariffs to be effective 9/29/2010.

Filed Date: 12/15/2010.

Accession Number: 20101215-5165.

Comment Date: 5 p.m. Eastern Time on Wednesday, January 05, 2011

.

Docket Numbers: ER10-3286-001.

Applicants: Millennium Power Partners, L.P.

Description: Millennium Power Partners, L.P. submits tariff filing per 35: FERC Electric MBR Tariff to be effective 9/30/2010.

Filed Date: 12/16/2010.

Accession Number: 20101216-5110.

Comment Date: 5 p.m. Eastern Time on Thursday, January 06, 2011.

Docket Numbers: ER11-1895-001.

Applicants: ISO New England Inc.

Description: ISO New England Inc. submits tariff filing per 35: ER11-1895 Compliance Filing to Correct eTariff Viewer Version of Attachments to be effective 10/1/2010.

Filed Date: 12/16/2010.

Accession Number: 20101216-5024.

Comment Date: 5 p.m. Eastern Time on Thursday, January 06, 2011.

Docket Numbers: ER11-1954-001.

Applicants: Wisconsin Power and Light Company.

Description: Wisconsin Power and Light Company submits tariff filing per 35.17(b): IPL WPL—LBA Amendment to be effective 12/28/2010.

Filed Date: 12/15/2010.

Accession Number: 20101215-5190.

Comment Date: 5 p.m. Eastern Time on Wednesday, January 05, 2011.

Docket Numbers: ER11-2005-001.

Applicants: Wind Capital Holdings, LLC.

Description: Wind Capital Holdings, LLC submits tariff filing per 35: Wind Capital MBR to be effective 12/17/2010.

Filed Date: 12/16/2010.

Accession Number: 20101216-5044.

Comment Date: 5 p.m. Eastern Time on Thursday, January 06, 2011.

Docket Numbers: ER11-2009-001.

Applicants: Michigan Wind 1, LLC.

Description: Michigan Wind 1, LLC submits tariff filing per 35: Michigan Wind MBR to be effective 12/17/2010.

Filed Date: 12/16/2010.

Accession Number: 20101216-5078.

Comment Date: 5 p.m. Eastern Time on Thursday, January 06, 2011.

Docket Numbers: ER11-2010-001.

Applicants: Exelon Wind 4, LLC.

Description: Exelon Wind 4, LLC submits tariff filing per 35: Exelon Wind 4 MBR to be effective 12/17/2010.

Filed Date: 12/16/2010.

Accession Number: 20101216-5035.

Comment Date: 5 p.m. Eastern Time on Thursday, January 06, 2011.

Docket Numbers: ER11-2013-001.

Applicants: CR Clearing, LLC.

Description: CR Clearing, LLC submits tariff filing per 35: CR Clearing MBR to be effective 12/17/2010.

Filed Date: 12/16/2010.

Accession Number: 20101216-5077.

Comment Date: 5 p.m. Eastern Time on Thursday, January 06, 2011.

Docket Numbers: ER11-2014-001.

Applicants: Cow Branch Wind Power, LLC.

Description: Cow Branch Wind Power, LLC submits tariff filing per 35: Cow Branch Wind MBR to be effective 12/17/2010.

Filed Date: 12/16/2010.

Accession Number: 20101216-5040.

Comment Date: 5 p.m. Eastern Time on Thursday, January 06, 2011.

Docket Numbers: ER11-2325-000.

Applicants: California Pacific Electric Company, LLC.

Description: Supplement to Eichler Affidavit/Request of California Pacific Electric Company, LLC.

Filed Date: 12/16/2010.

Accession Number: 20101216-5082.

Comment Date: 5 p.m. Eastern Time on Thursday, December 23, 2010.

Docket Numbers: ER11-2352-001.

Applicants: PJM Interconnection, L.L.C.

Description: PJM Interconnection, L.L.C. submits tariff filing per 35.17(b): Errata to Original Service Agreement 2712 Among PJM, Exelon and ComEd to be effective 11/12/2010.

Filed Date: 12/16/2010.

Accession Number: 20101216-5049.

Comment Date: 5 p.m. Eastern Time on Thursday, January 06, 2011.

Docket Numbers: ER11-2377-000.

Applicants: Northern Pass Transmission LLC.

Description: Northern Pass Transmission LLC submits tariff filing per 35.1: TSA between Northern Pass Transmission LLC and H.Q. Hydro Renewable Energy, Inc. to be effective 2/14/2011.

Filed Date: 12/15/2010.

Accession Number: 20101215-5157.

Comment Date: 5 p.m. Eastern Time on Wednesday, January 05, 2011.

Docket Numbers: ER11-2378-000.

Applicants: Consolidated Edison Energy, Inc.

Description: Consolidated Edison Energy, Inc. submits tariff filing per 35: Consolidated Edison Energy Order 697 Compliance Filing to be effective 1/1/2011.

Filed Date: 12/15/2010.

Accession Number: 20101215-5158.

Comment Date: 5 p.m. Eastern Time on Wednesday, January 05, 2011.

Docket Numbers: ER11-2379-000.

Applicants: Consolidated Edison Solutions, Inc.

Description: Consolidated Edison Solutions, Inc. submits tariff filing per 35: Consolidated Edison Solutions Order 697 Compliance Filing to be effective 1/1/2011.

Filed Date: 12/15/2010.

Accession Number: 20101215-5175.

Comment Date: 5 p.m. Eastern Time on Wednesday, January 05, 2011.

Docket Numbers: ER11-2380-000.

Applicants: Pacific Gas and Electric Company.

Description: Pacific Gas and Electric Company submits tariff filing per 35.13(a)(2)(iii): Western WDT Service Agreement Modifications to be effective 2/14/2011.

Filed Date: 12/15/2010.

Accession Number: 20101215-5189.

Comment Date: 5 p.m. Eastern Time on Wednesday, January 05, 2011.

Docket Numbers: ER11-2381-000.

Applicants: Pacific Gas and Electric Company.

Description: Pacific Gas and Electric Company submits tariff filing per 35.13(a)(2)(iii): Western IA Modifications to be effective 2/14/2011.

Filed Date: 12/15/2010.

Accession Number: 20101215-5191.

Comment Date: 5 p.m. Eastern Time on Wednesday, January 05, 2011.

Docket Numbers: ER11-2382-000.

Applicants: NorthWestern Corporation.

Description: NorthWestern Corporation submits tariff filing per 35.13(a)(2)(iii): NorthWestern Late-Filed Agreements to be effective 12/15/2010.

Filed Date: 12/15/2010.

Accession Number: 20101215-5192.

Comment Date: 5 p.m. Eastern Time on Wednesday, January 05, 2011.

Docket Numbers: ER11-2383-000.

Applicants: Safe Harbor Water Power Corporation.

Description: Safe Harbor Water Power Corporation submits tariff filing per 35.1: Safe Harbor Water Power Corporation Baseline Electric Tariffs to be effective 12/16/2010.

Filed Date: 12/16/2010.

Accession Number: 20101216-5000.

Comment Date: 5 p.m. Eastern Time on Thursday, January 06, 2011.

Docket Numbers: ER11-2384-000.

Applicants: Gilroy Energy Center, LLC.

Description: Notice of Expiration of Reliability Must-Run Agreement Between Gilroy Energy Center, LLC and California Independent System Operator Corporation.

Filed Date: 12/15/2010.

Accession Number: 20101215-5216.

Comment Date: 5 p.m. Eastern Time on Wednesday, January 05, 2011.

Docket Numbers: ER11-2385-000.

Applicants: Southwest Power Pool, Inc.

Description: Southwest Power Pool, Inc. submits tariff filing per 35.13(a)(2)(iii): Firm and Non-Firm PTP Transmission Service Agreements No. 1795, 1899, and 1900 to be effective 7/30/2010.

Filed Date: 12/16/2010.

Accession Number: 20101216-5036.

Comment Date: 5 p.m. Eastern Time on Thursday, January 06, 2011.

Docket Numbers: ER11-2386-000.

Applicants: California Independent System Operator Corporation.

Description: California Independent System Operator Corporation submits tariff filing per 35.13(a)(2)(iii): 2010-12-16 CAISO's Non Conforming LGIA for Coram Brodie Wind Project to be effective 12/10/2010.

Filed Date: 12/16/2010.

Accession Number: 20101216-5076.

Comment Date: 5 p.m. Eastern Time on Thursday, January 06, 2011.

Docket Numbers: ER11-2387-000.

Applicants: PJM Interconnection, L.L.C.

Description: PJM Interconnection, L.L.C. submits tariff filing per 35: Compliance filing to revise PJM Tariff Sec 4.2 per to Order 676F—NAESB WEQ to be effective 9/17/2010.

Filed Date: 12/16/2010.

Accession Number: 20101216-5079.

Comment Date: 5 p.m. Eastern Time on Thursday, January 06, 2011.

Docket Numbers: ER11-2388-000.

Applicants: Southwestern Electric Power Company.

Description: Southwestern Electric Power Company submits tariff filing per 35.1: SWEPCO RS and SA Baseline to be effective 12/17/2010.

Filed Date: 12/16/2010.

Accession Number: 20101216-5080.

Comment Date: 5 p.m. Eastern Time on Thursday, January 06, 2011.

Docket Numbers: ER11-2389-000.

Applicants: PJM Interconnection, L.L.C.

Description: PJM Interconnection, L.L.C. submits tariff filing per 35.13(a)(2)(iii): WMPA No. 2707, Queue No. W1-112, CornerStone Power Holmdel, LLC & JCPL to be effective 11/19/2010.

Filed Date: 12/16/2010.

Accession Number: 20101216-5111.

Comment Date: 5 p.m. Eastern Time on Thursday, January 06, 2011.

Docket Numbers: ER11-2390-000.

Applicants: Cleco Power LLC.

Description: Cleco Power LLC submits tariff filing per 35.13(a)(2)(iii): RS 25 Valley ESIA 2010 revised to be effective 10/1/2010.

Filed Date: 12/16/2010.

Accession Number: 20101216-5121.

Comment Date: 5 p.m. Eastern Time on Thursday, January 06, 2011.

Docket Numbers: ER11-2391-000.

Applicants: PJM Interconnection, L.L.C.

Description: PJM Interconnection, L.L.C. submits tariff filing per 35.13(a)(2)(iii): Revisions to Sections 3.2.3 of the OATT Attach K Appendix and the OA Schedule 1 to be effective 10/25/2010.

Filed Date: 12/16/2010.

Accession Number: 20101216-5123.

Comment Date: 5 p.m. Eastern Time on Thursday, January 06, 2011.

Docket Numbers: ER11-2392-000.

Applicants: New York State Reliability Council, L.L.

Description: New York State Reliability Council, L.L.C. submits Revision of the Installed Capacity Requirement for the New York Control Area.

Filed Date: 12/16/2010.

Accession Number: 20101216-5136.

Comment Date: 5 p.m. Eastern Time on Thursday, January 06, 2011.

Docket Numbers: ER11-2393-000.

Applicants: PJM Interconnection, L.L.C.

Description: PJM Interconnection, L.L.C. submits tariff filing per 35.13(a)(2)(iii): WMPA No. 2706, Queue No. V1-021, Cape May County & Atlantic City Electric to be effective 1/19/2010.

Filed Date: 12/16/2010.

Accession Number: 20101216-5139.

Comment Date: 5 p.m. Eastern Time on Thursday, January 06, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-32647 Filed 12-27-10; 8:45 am]

BILLING CODE 6717-01-P